DEPARTMENT OF HOMELAND SECURITY

Federal Emergency Management Agency

[Docket ID FEMA-2008-0021]

Federal Radiological Preparedness Coordinating Committee

ACTION: Notice of public meeting.

SUMMARY: The Federal Radiological Preparedness Coordinating Committee (FRPCC) is holding a public meeting on January 27, 2009 in Washington, DC.

DATES: The meeting will occur on January 27, 2009 from 9 a.m. to 11 a.m., eastern daylight time. Those intending to participate must provide their name and telephone number by close of business on January 16, 2009. Those intending to submit written statements and requests to make oral statements must also be received by close of business on January 16, 2009.

ADDRESSES: The meeting will be held at the Federal Emergency Management Agency (FEMA) Conference Center located at 800 K Street, NW., Washington, DC 20001.

FOR FURTHER INFORMATION CONTACT: To register for the meeting or file a written statement, please contact Ms. Pat Tenorio, DHS/FEMA, South Bell Street—CC845, Mail Stop 3025, Arlington, VA 20598-3025, telephone (703) 605-4213; fax (703) 305-0837; or e-mail pat.tenorio@dhs.gov.

To reserve time to make an oral presentation, submit a written request to James R. Kish, FRPCC Chair, DHS/FEMA, 1800 South Bell Street—CC845, Mail Stop 3025, Arlington, VA 20598-3025 or fax (703) 305-0837.

SUPPLEMENTARY INFORMATION: The role and functions of the FRPCC are described in 44 CFR 351.10(a) and 351.11(a). The tentative agenda for the FRPCC meeting includes: (1) Introductions, (2) reports from FRPCC Subcommittees, (3) old business and new business, and (4) business from the floor.

The meeting is open to the public, subject to the availability of space. Please note that the meeting may close early.

All visitors to the FEMA Conference Center must pre-register to be admitted to the building. Those intending to participate must provide their name and telephone number by close of business on January 16, 2009, to Pat Tenorio, DHS/FEMA, South Bell Street—CC845, Mail Stop 3025, Arlington, VA 20598-3025, telephone (703) 605-4213; fax (703) 305-0837; or e-mail pat.tenorio@dhs.gov. Building security requires a list of all participants prior to the date of the meeting. If you have not been pre-registered, you may be denied access on the date of the meeting.

The FRPCC Chair shall conduct the meeting in a way that will facilitate the orderly conduct of business. Reasonable provisions will be made, if time permits, for oral statements from the public of not more than five minutes in length. Any member of the public who wishes to make an oral statement at the meeting must request time, in writing, from James R. Kish, FRPCC Chair, DHS/FEMA, 1800 South Bell Street—CC845, Mail Stop 3025, Arlington, VA 20598-3025 or fax (703) 305-0837 no later than January 16, 2009. Any member of the public who wishes to file a written statement with the FRPCC should mail or fax the statement to the Federal Radiological Preparedness Coordinating Committee, c/o Pat Tenorio, DHS/FEMA, 1800 South Bell Street—CC845, Mail Stop 3025, Arlington, VA 20598-3025 before close of business on January 16, 2009.

Information on Services for Individuals With Disabilities

For information on facilities or services for individuals with disabilities or to request special assistance at the meeting, contact Pat Tenorio at (703) 605-4213 as soon as possible.

Dated: December 22, 2008.
James R. Kish,
Director, Technological Hazards Division, National Preparedness Directorate, Department of Homeland Security, Federal Emergency Management Agency, Chair, Federal Radiological Preparedness Coordinating Committee.

[FR Doc. E9-81 Filed 1-7-09; 8:45 am]

BILLING CODE 9110-21-P